DEPARTMENT OF TRANSPORTATION

Surface Transportation Board

[STB Finance Docket No. 34644]

Finger Lakes Railway Corporation—Trackage Rights Exemption—CSX Transportation, Inc.

CSX Transportation, Inc. (CSXT) has agreed to grant overhead trackage rights to Finger Lakes Railway Corporation (FGLK) over CSXT's: (1) CSXT/NYSW Interchange Track between the CSXT/New York, Susquehanna and Western Railway Corporation property line and the Geddes Lead Track; (2) Geddes Lead Track for its entire length to the Auburn Secondary; (3) Auburn Secondary Track between its connection to the Geddes Lead Track and its connection to the CSXT/FGLK Interchange Track; and (4) CSXT/FGLK Interchange Track between the CSXT/FGLK property line and the connection to the Auburn Secondary Track, a total distance of approximately 1.5 miles. The railroad line trackage is located in the State of New York.¹

¹ A redacted version of the trackage rights agreement between CSXT and FGLK was filed with the notice of exemption. The full version of the agreement, as required by 49 CFR 1180.6(a)(7)(ii), was filed under seal along with a motion for protective order on January 28, 2005. A protective order is being served on February 1, 2005.

The transaction was scheduled to be consummated on or after the January 26, 2005, effective date of the exemption.

The purpose of the trackage rights is to allow FGLK to access another Class III rail carrier in furtherance of the principles of the Railroad Industry Agreement.

As a condition to this exemption, any employees affected by the trackage rights will be protected by the conditions imposed in Norfolk and Western Ry. Co.-Trackage Rights-BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34644, must be filed with the Surface Transportation Board, 1925 K Street, NW., Washington, DC 20423-0001. In addition, a copy of each pleading must be served on Eric M. Hocky, Gollatz, Griffin & Ewing, P.C., Four Penn Center Plaza, 1600 John F. Kennedy Blvd., Suite 200, Philadelphia, PA 19103-2808.

Board decisions and notices are available on our Web site at http://www.stb.dot.gov.

Decided: February 1, 2005.
By the Board, David M. Konschnik, Director, Office of Proceedings.
Vernon A. Williams,
Secretary.

[FR Doc. 05-2375 Filed 2-7-05; 8:45 am]

BILLING CODE 4915-01-P